DEPARTMENT OF COMMERCE

National Oceanic and Atmospheric Administration

RIN 0648-XF495

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (MAFMC's) Demersal Committee will hold a public meeting, jointly with a subset of the Atlantic States Marine Fisheries Commission's (ASMFC) Summer Flounder, Scup, and Black Sea Bass Board (Board).

DATES: The meeting will be held on Tuesday, July 11, 2017, from 1 p.m. to 5 p.m. and on Wednesday, July 12, 2017, from 8:30 a.m. to 3 p.m.

ADDRESSES: The meeting will be held at the Hilton Baltimore BWI Airport Hotel, 1739 W. Nursery Rd., Linthicum, MD 21090; telephone: (410) 694-0808.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: The Demersal Committee and members of the Board will meet to review and discuss draft options for management of the commercial summer flounder fishery under the Comprehensive Summer Flounder Amendment, including options for addressing permit capacity and latent effort, commercial allocation, and landings flexibility. The goal of the meeting is to refine the draft range of alternatives and provide additional guidance to staff on adding specificity to the alternatives and analyzing their impacts, prior to additional consideration by the Council and Board at their August 2017 joint meeting. Meeting materials will be posted to http://www.mafmc.org/ prior to the meeting.

Special Accommodations

The meeting is physically accessible to people with disabilities. Requests for sign language interpretation or other auxiliary aid should be directed to M. Jan Saunders, (302) 526-5251, at least 5 days prior to the meeting date.

Dated: June 22, 2017.
Tracey L. Thompson,
Acting Deputy Director, Office of Sustainable Fisheries, National Marine Fisheries Service.

[FR Doc. 2017-13397 Filed 6-26-17; 8:45 am]

BILLING CODE 3510-22-P